DEPARTMENT OF HOMELAND SECURITY

Federal Emergency Management Agency

[Docket ID FEMA-2018-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Dated: March 8, 2018.
Roy E. Wright,
Deputy Associate Administrator for Insurance and Mitigation, Department of Homeland Security, Federal Emergency Management Agency.

State and county | Location and case No. | Chief executive officer of community | Community map repository | Date of modification | Community No.
Alabama: Jefferson (FEMA Docket No.: B-1762) | Unincorporated areas of Jefferson County (17-04-7129X) | The Honorable James A. Stephens, Chairman, Jefferson County Board of Commissioners, 716 Richard Arrington, Jr. Boulevard North, Birmingham, AL 35203 | Jefferson County Land Development Department, 716 Richard Arrington, Jr. Boulevard North, Birmingham, AL 35203 | Feb. 12, 2018 | 010217
Colorado:
Douglas (FEMA Docket No.: B-1767) | Town of Castle Rock (17-08-0610P) | The Honorable Jennifer Green, Mayor, Town of Castle Rock, 100 North Wilcox Street, Castle Rock, CO 80104 | Water Department, 175 Kellogg Court, Castle Rock, CO 80109 | Feb. 16, 2018 | 080050
Douglas (FEMA Docket No.: B-1767) | Unincorporated areas of Douglas County (17-08-0610P) | The Honorable Roger Partridge, Chairman, Douglas County Board of Commissioners, 100 3rd Street, Castle Rock, CO 80104 | Douglas County Public Works Department, 100 3rd Street, Castle Rock, CO 80104 | Feb. 16, 2018 | 080049
Connecticut:
Fairfield (FEMA Docket No.: B-1803) | City of Bridgeport (17-01-1059P) | The Honorable Joseph P. Ganim, Mayor, City of Bridgeport, 999 Broad Street, Bridgeport, CT 06604. | City Hall, 45 Lyon Terrace, Bridgeport, CT 06604 | Feb. 12, 2018 | 090002
Fairfield (FEMA Docket No.: B-1803) | Town of Greenwich (17-01-2058P) | The Honorable Peter Tesei, First Selectman, Town of Greenwich Board of Selectmen, 101 Field Point Road, Greenwich, CT 06830 | Planning and Zoning Department, 101 Field Point Road, Greenwich, CT 06830 | Feb. 9, 2018 | 090008
Florida:
Broward (FEMA Docket No.: B-1767) | City of Miramar (17-04-7683X) | The Honorable Wayne M. Messam, Mayor, City of Miramar, 2300 Civic Center Place, Miramar, FL 33025 | Public Works Department, 13900 Pembroke Road, Building L, Miramar, FL 33025 | Feb. 22, 2018 | 120048
Charlotte (FEMA Docket No.: B-1767) | City of Punta Gorda (17-04-4542P) | The Honorable Rachel Keesling, Mayor, City of Punta Gorda, 326 West Marion Avenue, Punta Gorda, FL 33950 | City Hall, 326 West Marion Avenue, Punta Gorda, FL 33950 | Feb. 14, 2018 | 120062
Lee (FEMA Docket No.: B-1767) | City of Cape Coral (17-04-5713P) | The Honorable Marni Sawicki, Mayor, City of Cape Coral, 1015 Cultural Park Boulevard, Cape Coral, FL 33990 | Department of Community Development, 1015 Cultural Park Boulevard, Cape Coral, FL 33990 | Feb. 23, 2018 | 125095
Lee (FEMA Docket No.: B-1767) | Unincorporated areas of Lee County (17-04-5713P) | The Honorable John Manning, Chairman, Lee County Board of Commissioners, P.O. Box 398, Fort Myers, FL 33902 | Lee County Community Development Department, 1500 Monroe Street, Fort Myers, FL 33901 | Feb. 23, 2018 | 125124
Manatee (FEMA Docket No.: B-1767) | Unincorporated areas of Manatee County (17-04-1328P) | The Honorable Betsy Benac, Chair, Manatee County Board of Commissioners, P.O. Box 1000, Bradenton, FL 34206 | Manatee County Building and Development Services Department, 1112 Manatee Avenue West, Bradenton, FL 34205 | Feb. 20, 2018 | 120153
Monroe (FEMA Docket No.: B-1767) | City of Marathon (17-04-6616P) | The Honorable Dan Zieg, Mayor, City of Marathon, 9805 Overseas Highway, Marathon, FL 33050 | Planning Department, 9805 Overseas Highway, Marathon, FL 33050 | Feb. 20, 2018 | 120681
Monroe (FEMA Docket No.: B-1767) | Unincorporated areas of Monroe County (17-04-4988P) | The Honorable George Neugent, Mayor, Monroe County Board of Commissioners, 25 Ships Way, Big Pine Key, FL 33043 | Monroe County Building Department, 2798 Overseas Highway, Suite 300, Marathon, FL 33040 | Feb. 8, 2018 | 125129
Monroe (FEMA Docket No.: B-1767) | Unincorporated areas of Monroe County (17-04-5954P) | The Honorable George Neugent, Mayor, Monroe County Board of Commissioners, 25 Ships Way, Big Pine Key, FL 33043 | Monroe County Building Department, 2798 Overseas Highway, Suite 300, Marathon, FL 33040 | Feb. 8, 2018 | 125129
Monroe (FEMA Docket No.: B-1767) | Unincorporated areas of Monroe County (17-04-6030P) | The Honorable George Neugent, Mayor, Monroe County Board of Commissioners, 25 Ships Way, Big Pine Key, FL 33043 | Monroe County Building Department, 2798 Overseas Highway, Suite 300, Marathon, FL 33040 | Feb. 8, 2018 | 125129
Monroe (FEMA Docket No.: B-1767) | Unincorporated areas of Monroe County (17-04-6434P) | The Honorable George Neugent, Mayor, Monroe County Board of Commissioners, 25 Ships Way, Big Pine Key, FL 33043 | Monroe County Building Department, 2798 Overseas Highway, Suite 300, Marathon, FL 33040 | Feb. 13, 2018 | 125129
Pasco (FEMA Docket No.: B-1767) | Unincorporated areas of Pasco County (17-04-2409P) | The Honorable Mike Moore, Chairman, Pasco County Board of Commissioners, 8731 Citizens Drive, New Port Richey, FL 34654 | Pasco County Building and Construction Services Department, 8731 Citizens Drive, New Port Richey, FL 34654 | Feb. 22, 2018 | 120230
Pinellas (FEMA Docket No.: B-1767) | City of Treasure Island (17-04-5547P) | The Honorable Robert Minning, Mayor, City of Treasure Island, 120 108th Avenue, Treasure Island, FL 33706 | Community Improvement Department, 120 108th Avenue, Treasure Island, FL 33706 | Feb. 20, 2018 | 125153
Pinellas (FEMA Docket No.: B-1767) | Town of Redington Beach (17-04-4168P) | The Honorable James Simons, Mayor, Town of Redington Beach Commission, 105 164th Avenue, Redington Beach, FL 33708 | Public Works Department, 105 164th Avenue, Redington Beach, FL 33708 | Feb. 12, 2018 | 125140
Sarasota (FEMA Docket No.: B-1767) | City of Sarasota (17-04-6361P) | The Honorable Shelli Freeland Eddie, Mayor, City of Sarasota, 1565 1st Street, Room 101, Sarasota, FL 34236 | Neighborhood and Development Services Development, 1565 1st Street, Sarasota, FL 34236 | Feb. 20, 2018 | 125150
Georgia:
Bulloch (FEMA Docket No.: B-1770) | Unincorporated areas of Bulloch County (16-04-5191P) | The Honorable Roy Thompson, Chairman, Bulloch County Board of Commissioners, 115 North Main Street, Statesboro, GA 30459 | Bulloch County Development Services Department, 115 North Main Street, Statesboro, GA 30459 | Feb. 22, 2018 | 130019
Effingham (FEMA Docket No.: B-1770) | City of Guyton (16-04-5191P) | The Honorable Jeff Lariscy, Mayor, City of Guyton, 310 Central Boulevard, Guyton, GA 31312 | City Hall, 310 Central Boulevard, Guyton, GA 31312 | Feb. 22, 2018 | 130456
Effingham (FEMA Docket No.: B-1770) | Unincorporated areas of Effingham County (16-04-5191P) | The Honorable Wesley Corbitt, Chairman, Effingham County Board of Commissioners, 601 North Laurel Street, Springfield, GA 31329 | Effingham County Development Services Department, 601 North Laurel Street, Springfield, GA 31329 | Feb. 22, 2018 | 130076
Louisiana: Madison (FEMA Docket No.: B-1803) | Unincorporated areas of Madison Parish (17-06-1514P) | The Honorable Robert Fortenberry, President, Madison Parish, 100 North Cedar Street, Tallulah, LA 71282 | Madison Parish Courthouse, 100 North Cedar Street, Tallulah, LA 71282 | Feb. 16, 2018 | 220122
Massachusetts:
Middlesex (FEMA Docket No.: B-1767) | Town of Bedford (17-01-1899P) | The Honorable Margot R. Fleischman, Chair, Town of Bedford Board of Selectmen, 10 Mudge Way, Bedford, MA 01730 | Code Enforcement Department, 10 Mudge Way, Bedford, MA 01730 | Feb. 9, 2018 | 255209
Middlesex (FEMA Docket No.: B-1767) | Town of Billerica (17-01-1899P) | Mr. John C. Curran, Manager, Town of Billerica, 365 Boston Road, Billerica, MA 01821 | Town Hall, 365 Boston Road, Billerica, MA 01821 | Feb. 9, 2018 | 250183
Middlesex (FEMA Docket No.: B-1767) | Town of Carlisle (17-01-1899P) | The Honorable Luke Ascolillo, Chairman, Town of Carlisle Board of Selectmen, 66 Westford Street, Carlisle, MA 01741 | Town Hall, 66 Westford Street, Carlisle, MA 01741 | Feb. 9, 2018 | 250187
Middlesex (FEMA Docket No.: B-1767) | Town of Concord (17-01-1899P) | Mr. Christopher Whelan, Manager, Town of Concord, 22 Monument Square, Concord, MA 01742 | Department of Public Works, 133 Keyes Road, Concord, MA 01742 | Feb. 9, 2018 | 250189
New Mexico:
Bernalillo (FEMA Docket No.: B-1803) | City of Albuquerque (17-06-4036X) | The Honorable Richard J. Berry, Mayor, City of Albuquerque, P.O. Box 1293, Albuquerque, NM 87103 | Development Review Services Division, 600 2nd Street Northwest, Albuquerque, NM 87103 | Feb. 5, 2018 | 350002
Bernalillo (FEMA Docket No.: B-1767) | Unincorporated areas of Bernalillo County (17-06-1386P) | Ms. Julie Morgas Baca, Bernalillo County Manager, 1 Civic Plaza Northwest, Albuquerque, NM 87102 | Bernalillo County Public Works Division, 2400 Broadway Boulevard Southeast, Albuquerque, NM 87102 | Feb. 21, 2018 | 350001
North Carolina:
Wake (FEMA Docket No.: B-1770) | City of Raleigh (16-04-2666P) | The Honorable Nancy McFarlane, Mayor, City of Raleigh, P.O. Box 590, Raleigh, NC 27602 | Stormwater Management Division, 1 Exchange Plaza, Suite 304, Raleigh, NC 27601 | Feb. 14, 2018 | 370243
Wake (FEMA Docket No.: B-1770) | Town of Wake Forest (16-04-2666P) | The Honorable Vivian A. Jones, Mayor, Town of Wake Forest, 301 South Brooks Street, Wake Forest, NC 27587 | Town Hall, 301 South Brooks Street, Wake Forest, NC 27587 | Feb. 14, 2018 | 370244
Wake (FEMA Docket No.: B-1770) | Unincorporated areas of Wake County (16-04-2666P) | The Honorable Jessica Holmes, Chair, Wake County Board of Commissioners, P.O. Box 550, Raleigh, NC 27602 | Wake County Environmental Services Department, 336 Fayetteville Street, Raleigh, NC 27601 | Feb. 14, 2018 | 370368
Pennsylvania: Lackawanna (FEMA Docket No.: B-1762) | City of Scranton (17-03-0447P) | The Honorable William L. Courtright, Mayor, City of Scranton, 340 North Washington Avenue, Scranton, PA 18503 | City Hall, 340 North Washington Avenue, Scranton, PA 18503 | Feb. 7, 2018 | 420538
South Carolina:
Charleston (FEMA Docket No.: B-1767) | Town of Mount Pleasant (17-04-6335P) | The Honorable Linda Page, Mayor, Town of Mount Pleasant, 100 Ann Edwards Lane, Mount Pleasant, SC 29464 | Planning Department, 100 Ann Edwards Lane, Mount Pleasant, SC 29464 | Feb. 16, 2018 | 455417
Charleston (FEMA Docket No.: B-1767) | Unincorporated areas of Charleston County (17-04-6335P) | The Honorable A. Victor Rawl, Chairman, Charleston County Council, 4045 Bridge View Drive, Suite B254, North Charleston, SC 29405 | Charleston County Building Inspection Services Department, 4045 Bridge View Drive, Suite A311, North Charleston, SC 29405 | Feb. 16, 2018 | 455413
Dorchester (FEMA Docket No.: B-1767) | Unincorporated areas of Dorchester County (16-04-6961P) | The Honorable Jay Byars, Chairman, Dorchester County Council, 500 North Main Street, Summerville, SC 29483 | Dorchester County Public Works Department, 500 North Main Street, Summerville, SC 29483 | Feb. 8, 2018 | 450068
Tennessee: Wilson (FEMA Docket No.: B-1803) | City of Mt. Juliet (17-04-6333P) | The Honorable Ed Hagerty, Mayor, City of Mt. Juliet, 2425 North Mt. Juliet Road, Mt. Juliet, TN 37122 | City Hall, 2425 North Mt. Juliet Road, Mt. Juliet, TN 37122 | Feb. 15, 2018 | 470290
Texas:
Bexar (FEMA Docket No.: B-1767) | Unincorporated areas of Bexar County (17-06-3197P) | The Honorable Nelson W. Wolff, Bexar County Judge, 101 West Nueva Street, 10th Floor, San Antonio, TX 78205 | Bexar County Public Works Department, 233 North Pecos-La Trinidad Street, Suite 420, San Antonio, TX 78207 | Feb. 9, 2018 | 480035
Collin (FEMA Docket No.: B-1767) | City of Frisco (17-06-2725P) | The Honorable Jeff Cheney, Mayor, City of Frisco, 6101 Frisco Square Boulevard, Frisco, TX 75034 | Engineering Services Department, 6101 Frisco Square Boulevard, Frisco, TX 75034 | Feb. 12, 2018 | 480134
Dallas (FEMA Docket No.: B-1767) | City of Dallas (17-06-2366P) | The Honorable Michael S. Rawlings, Mayor, City of Dallas, 1500 Marilla Street, Suite 5EN, Dallas, TX 75201 | Mobility and Street Services Department, 320 East Jefferson Boulevard, Suite 307, Dallas, TX 75203 | Feb. 20, 2018 | 480171
Dallas (FEMA Docket No.: B-1767) | City of Hutchins (17-06-1464P) | The Honorable Mario Vasquez, Mayor, City of Hutchins, P.O. Box 500, Hutchins, TX 75141 | City Hall, 321 North Main Street, Hutchins, TX 75141 | Feb. 20, 2018 | 480179
Dallas (FEMA Docket No.: B-1767) | Unincorporated areas of Dallas County (17-06-1464P) | The Honorable Clay Jenkins, Dallas County Judge, 411 Elm Street, 2nd Floor, Dallas, TX 75202 | Department of Public works, 411 Elm Street, 4th Floor, Dallas, TX 75202 | Feb. 20, 2018 | 480165
Denton (FEMA Docket No.: B-1767) | Town of Bartonville (17-06-1156P) | The Honorable Bill Scherer, Mayor, Town of Bartonville, 1941 East Jeter Road, Bartonville, TX 76226 | Teague Nall and Perkins, Inc., 1517 Centre Place Drive, Suite 320, Denton, TX 76205 | Feb. 9, 2018 | 481501
Galveston (FEMA Docket No.: B-1762) | City of Galveston (17-06-2017P) | The Honorable Jim Yarbrough, Mayor, City of Galveston, P.O. Box 779, Galveston, TX 77553 | Building Department, 823 Rosenberg Street, Galveston, TX 77553 | Feb. 6, 2018 | 485469
Medina (FEMA Docket No.: B-1807) | Unincorporated areas of Medina County (17-06-3375P) | The Honorable Chris Schuchart, Medina County Judge, 1502 Avenue K, Hondo, TX 78861 | Medina County Environmental Health Department, 709 Avenue Y, Hondo, TX 78861 | Feb. 22, 2018 | 480472
Montgomery (FEMA Docket No.: B-1803) | Unincorporated areas of Montgomery County (17-06-0698P) | The Honorable Craig B. Doyal, Montgomery County Judge, 501 North Thompson Street, Suite 401, Conroe, TX 77301 | Montgomery County Commissioners Court Building, 501 North Thompson, Suite 103, Conroe, TX 77301 | Feb. 16, 2018 | 480483
Wilson (FEMA Docket No.: B-1767) | City of Floresville (17-06-3071P) | The Honorable Cecelia Gonzalez-Dippel, Mayor, City of Floresville, 1120 D Street, Floresville, TX 78114 | City Hall, 1120 D Street, Floresville, TX 78114 | Feb. 15, 2018 | 480671
Utah: Washington (FEMA Docket No.: B-1767) | City of Washington (17-08-0585P) | The Honorable Ken Neilson, Mayor, City of Washington, 111 North 100 East, Washington, UT 84780 | Public Works Department, 1305 East Washington Dam Road, Washington, UT 84780 | Feb. 13, 2018 | 490182
Virginia:
Gloucester (FEMA Docket No.: B-1767) | Unincorporated areas of Gloucester County (17-03-0659P) | The Honorable Phillip Bazzani, Chairman, Gloucester County Board of Supervisors, P.O. Box 329, Gloucester, VA 23061 | Gloucester County Building Inspections Department, 6489 Main Street, Suite 247, Gloucester, VA 23061 | Feb. 9, 2018 | 510071
Prince William (FEMA Docket No.: B-1767) | City of Manassas Park (17-03-0746P) | Mr. Laszlo A. Palko, Manager, City of Manassas Park, 1 Park Center Court, Manassas Park, VA 20111 | City Hall, 1 Park Center Court, Manassas Park, VA 20111 | Feb. 15, 2018 | 510123
Prince William (FEMA Docket No.: B-1767) | Unincorporated areas of Prince William County (17-03-0746P) | Mr. Christopher E. Martino, Prince William County Executive, 1 County Complex Court, Woodbridge, VA 22192 | Prince William County Department of Public Works, 5 County Complex Court, Woodbridge, VA 22192 | Feb. 15, 2018 | 510119
West Virginia: Jackson (FEMA Docket No.: B-1767) | Unincorporated areas of Jackson County (17-03-2040P) | The Honorable Dick Waybright, President, Jackson County Commission, P.O. Box 800, Ripley, WV 25271 | Jackson County Emergency Services Department, 100 North Maple Street, Ripley, WV 25271 | Feb. 20, 2018 | 540063

[FR Doc. 2018-06816 Filed 4-3-18; 8:45 am]

BILLING CODE 9110-12-P